DEPARTMENT OF THE INTERIOR

Fish and Wildlife Service

[FWS-R8-ES-2012-N205; FXES11130800000-123-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before September 24, 2012.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicant

Permit No. TE-78622A

Applicant: Cornelius W. Bouscaren, San Marcos, California

The applicant requests a permit to take (harass by survey) the southwestern willow flycatcher (Empidonax traillii extimus) and take (monitor nests) the least Bell's vireo (Vireo bellii pusillus) in conjunction with surveys and population monitoring activities throughout the range of each species in California for the purpose of enhancing the species' survival.

Permit No. TE-806679

Applicant: Spring Rivers Ecological Sciences, Cassel, California

The applicant requests an amendment to a permit to take (capture, weigh, mark, voucher, collect tissue, relocate, and release) the Shasta crayfish (Pacifastacus fortis) in conjunction with survey and research activities throughout the range of each species in California for the purpose of enhancing the species' survival.

Permit No. TE-78621A

Applicant: Lauren E. Ross, Walnut Creek, California

The applicant requests a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Permit No. TE-035336

Applicant: San Diego State University, San Diego, California

The applicant requests a permit to remove and reduce to possession from lands under Federal jurisdiction the Amsinckia grandiflora (large-flowered fiddleneck) in conjunction with propagation, restoration, and relocation activities in Contra Costa County, California, for the purpose of enhancing the species' survival.

Permit No. TE-14231A

Applicant: Caesara W. Brungraber, San Diego, California

The applicant requests an amendment to a permit to take (survey by pursuit) the Quino checkerspot butterfly (Euphydryas editha quino) in conjunction with survey activities throughout the range of the species in California for the purpose of enhancing the species' survival.

Permit No. TE-79192A

Applicant: Dallas R. Pugh, San Diego, California

The applicant requests a permit to take (survey by pursuit) the Quino checkerspot butterfly (Euphydryas editha quino) in conjunction with survey activities throughout the range of the species in California for the purpose of enhancing the species' survival.

Permit No. TE-76005A

Applicant: Tara Schoenwetter, Ventura, California

The applicant requests a permit to remove and reduce to possession from lands under Federal jurisdiction the Deinandra increscens subsp. villosa (Gaviota tarplant), Cirsium loncholepis (La Graciosa thistle), Layia carnosa (beach layia), Nasturtium gambelii (=Rorippa g.) (Gambel's watercress), Arenaria paludicola (Marsh sandwort), and Eriodictyon capitatum (Lompoc yerba santa) in conjunction with survey and plant collection activities at Vandenberg Air Force Base, Santa Barbara County, California, and Marine Corps Base Camp Pendleton in San Diego County, California; and take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of the species in California for the purpose of enhancing the species' survival.

Permit No. TE-67570A

Applicant: Brett A. Hanshew, Oakland, California

The applicant requests a permit to take (survey, capture, handle, and release) the California tiger salamander (Sonoma County Distinct Population Segment) (Ambystoma californiense) and California tiger salamander (Santa Barbara County Distinct Population Segment) (Ambystoma californiense) in conjunction with survey activities throughout the range of the species in California for the purpose of enhancing the species' survival.

Permit No. TE-75988A

Applicant: Michael Hagar, San Diego, California

The applicant requests a permit to remove and reduce to possession from lands under Federal jurisdiction the following plant species in conjunction with floristic surveys and botanical studies, and for conducting a herbarium program throughout the range of each species in California for the purpose of enhancing the species' survival:

Acanthoscyphus parishii var. goodmaniana (=Oxytheca p. var. g.) (Cushenbury oxytheca)

Acmispon dendroideus var. traskiae (=Lotus d. subsp. t.) (San Clemente Island broom)

Allium munzii (Munz's onion)

Ambrosia pumila (San Diego ambrosia)

Arctostaphylos glandulosa subsp. crassifolia (Del Mar manzanita)

Arenaria paludicola (Marsh sandwort)

Astragalus albens (Cushenbury milk-vetch)

Astragalus brauntonii (Braunton's milk-vetch)

Astragalus lentiginosus var. coachellae (Coachella Valley milk-vetch)

Astragalus pycnostachyus var. lanosissimus (Ventura Marsh milk-vetch)

Astragalus tener var. titi (coastal dunes milk-vetch)

Astragalus tricarinatus (triple-ribbed milk-vetch)

Atriplex coronata var. notatior (San Jacinto Valley crownscale)

Berberis nevinii (Nevin's barberry)

Castilleja grisea (San Clemente Island paintbrush)

Cercocarpus traskiae (Catalina Island mountain-mahogany)

Chloropyron maritimum subsp. maritimum (=Cordylanthus maritimus subsp. maritimus) (salt marsh bird's-beak)

Chorizanthe orcuttiana (Orcutt's spineflower)

Delphinium variegatum subsp. kinkiense (San Clemente Island larkspur)

Dodecahema leptoceras (=Centrostegia l.) (slender-horned spineflower)

Eriastrum densifolium subsp. sanctorum (Santa Ana River woolly-star)

Eriogonum ovalifolium var. vineum (cushenbury buckwheat)

Eryngium aristulatum var. parishii (San Diego button-celery)

Fremontodendron mexicanum (Mexican flannelbush)

Lithophragma maximum (San Clemente Island woodland-star)

Malacothamnus clementinus (San Clemente Island bush-mallow)

Monardella viminea (=M. linoides subsp. v.) (willowy monardella)

Orcuttia californica (California Orcutt grass)

Pentachaeta lyonii (Lyon's pentachaeta)

Physaria kingii subsp. bernardina (San Bernardino Mountains bladderpod)

Poa atropurpurea (San Bernardino bluegrass)

Pogogyne abramsii (San Diego mesa-mint)

Pogogyne nudiuscula (Otay mesa-mint)

Nasturtium gambelii (=Rorippa g.) (Gambel's watercress)

Sibara filifolia (Santa Cruz Island rockcress)

Sidalcea pedata (pedate checker-mallow)

Taraxacum californicum (California taraxacum)

Thelypodium stenopetalum (slender-petaled mustard)

Permit No. TE-38475A

Applicant: Jeff M. Lemm, San Diego, California

The applicant requests an amendment to a permit to take (survey, capture, handle, collect, transport, hold in captivity, display for zoological exhibition, captive breed, apply hormonal treatments, collect and perform cryopreservation of sperm, release to the wild, and euthanize individuals that are sick or have no reasonable prospect of being reintroduced to the wild for research) the mountain yellow-legged frog (southern California Distinct Population Segment) (Rana muscosa) in conjunction with research, captive breeding, and population monitoring activities throughout the range of the species in California for the purpose of enhancing the species' survival.

Permit No. TE-195891

Applicant: Justen Whittall, Santa Clara, California

The applicant requests an amendment to a permit to remove and reduce to possession from lands under Federal jurisdiction the Erysimum teretifolium (Ben Lomond wallflower) in conjunction with research activities in Santa Cruz County, California, for the purpose of enhancing the species' survival.

Permit No. TE-54716A

Applicant: Christine L. Harvey, San Diego, California

The applicant requests an amendment to a permit to take (harass by survey) the southwestern willow flycatcher (Empidonax traillii extimus) in conjunction with surveys throughout the range of the species in California for the purpose of enhancing the species' survival.

Permit No. TE-034101

Applicant: Naval Facilities Engineering Command Southwest, San Diego, California

The applicant requests an amendment to a permit to take (survey by pursuit) the Quino checkerspot butterfly (Euphydryas editha quino) in conjunction with survey activities throughout the range of the species in California for the purpose of enhancing the species' survival.

Permit No. TE-76732A

Applicant: Jennifer L. Kendrick, Encinitas, California

The applicant requests a permit to take (harass by survey) the southwestern willow flycatcher (Empidonax traillii extimus) in conjunction with surveys throughout the range of the species in California for the purpose of enhancing the species' survival.

Permit No. TE-80553A

Applicant: Aviva J. Rossi, San Anselmo, California

The applicant requests a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of each species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Regional Director, Pacific Southwest Region, Sacramento, California.

[FR Doc. 2012-20727 Filed 8-22-12; 8:45 am]

BILLING CODE 4310-55-P